DEPARTMENT OF HEALTH AND HUMAN SERVICES

Health Resources and Services Administration

Agency Information Collection Activities: Submission to OMB for Review and Approval; Public Comment Request; Information Collection Request Title: Federal Tort Claims Act (FTCA) Program Deeming Sponsorship Application for Free Clinics, OMB No. 0915-0293—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR must be received no later than December 3, 2020.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference.

Information Collection Request Title: Federal Tort Claims Act Program Deeming Sponsorship Application for Free Clinics, OMB No. 0915-0293—Revision

Abstract: Section 224(o) of the Public Health Service (PHS) Act (42 U.S.C. 233(o)), as amended, authorizes the “deeming” of certain individuals as PHS employees for the purposes of receiving liability protections, including Federal Tort Claims Act (FTCA) coverage, for the performance of medical, surgical, dental or related functions within the scope of deemed employment. Section 224(o) extends eligibility for deemed PHS employee status to free clinic health professionals including employees, officers, board members, contractors, and volunteers at qualifying free clinics.

The Free Clinics FTCA Program is administered by HRSA's Bureau of Primary Health Care. Sponsoring free clinics seeking FTCA coverage for their employees, officers, board members, contractors, and volunteers must submit deeming applications in the specified form and manner on behalf of named individuals for review and approval, resulting in a “deeming determination” that includes associated FTCA coverage for these individuals.

HRSA is proposing several changes to the FTCA Program Deeming Applications for Free Clinics, to be used for Free Clinic deeming sponsorship applications for Calendar Year 2021 and thereafter, to improve question clarity and clarify required documentation. Specifically, the Application includes the following proposed changes:

• Updated application language: Specifically, throughout the application, alternate terminology was utilized to provide greater clarity and specificity. These changes were based on stakeholder feedback and information received from the HRSA Health Center Program Support. These changes are not substantive in nature.

• Added Service Type and clarifications regarding professional designation: Specifically, section VI of the application was updated to include service type which will allow HRSA to verify whether an individual is performing clinical or non-clinical services. In addition to the inclusion of service type, a note was added to request that free clinics include the professional designation for each individual.

• Deleted remark in section IX: It has been determined that the information requested in this section, which related to offsite events and particularized determinations is no longer necessary to evaluate eligibility for deeming.

The FTCA Program has a web based application system, the Electronic Handbooks. These electronic application forms decrease the time and effort required to complete the older, paper-based OMB approved FTCA application forms. The application includes: Contact Information, Site Information, Information on the Sponsoring Free Clinic Eligibility, Information on the Credentialing and Privileging Systems, Information on the Risk Management Systems, Information on the Free Clinic Volunteer Health Care Professionals, Board Members, Officers, Employees, and Individual Contractors and Patient Visit Data.

A 60-day notice was published in the Federal Register on August 6, 2020, vol. 85, No. 152; pp. 47803-04. HRSA received one public comment regarding FTCA coverage of Urban Indian Organizations, which is outside of the scope of this ICR.

Need and Proposed Use of the Information: Deeming applications must address certain criteria required by law in order for the Secretary to deem an individual sponsored by a qualifying free clinic as a PHS employee for purposes of liability protections, including FTCA coverage. This determination cannot be made without the collection of this information. Specifically, the deeming sponsorship application form seeks information verifying that the free clinic meets the criteria to sponsor a deeming application and that the individual being sponsored is eligible to be deemed as a PHS employee. The FTCA application form for free clinics has been updated to improve clarity and thereby improve applicants' and deemed individuals' compliance with applicable requirements.

Likely Respondents: Respondents include free clinics seeking deemed PHS employee status on behalf of their sponsored individuals for purposes of liability protections including FTCA coverage.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
FTCA Program Deeming Application for Free Clinics | 374 | 3 | 1,122 | 2 | 2,244
Total | 374 |  | 1,122 |  | 2,244

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Division of the Executive Secretariat.

[FR Doc. 2020-24337 Filed 11-2-20; 8:45 am]

BILLING CODE 4165-15-P